DEPARTMENT OF LABOR

Employment and Training Administration

[TA-W-85,961]

Modine Manufacturing Company Including On-Site Leased Workers From Seek Professionals, LLC, Securitas Security Services USA, Inc., and Entegee, Washington, Iowa: Amended Certification Regarding Eligibility To Apply for Worker Adjustment Assistance

In accordance with Section 223 of the Trade Act of 1974, as amended (“Act”), 19 U.S.C. 2273, the Department of Labor issued a Certification of Eligibility to Apply for Worker Adjustment Assistance on July 30, 2015, applicable to workers of Modine Manufacturing Company, including on-site leased workers from Seek Professionals, LLC and Securitas Security Services USA, Inc., Washington, Iowa. The Department's notice of determination was published in the Federal Register on August 17, 2015 (80 FR 49269).

At the request of State Workforce Office, the Department reviewed the certification for workers of the subject firm.

The company reports that workers leased from Entegee were employed on-site at the Washington, Iowa location of Modine Manufacturing Company. The Department has determined that these workers were sufficiently under the control of the subject firm to be considered leased workers.

Based on these findings, the Department is amending this certification to include workers leased from Entegee working on-site at the Washington, Iowa location of Modine Manufacturing Company.

The amended notice applicable to TA-W-85,961 is hereby issued as follows:

All workers of Modine Manufacturing Company, including on-site leased workers from Seek Professionals, LLC, Securitas Security Services USA, Inc., and Entegee, Washington, Iowa, who became totally or partially separated from employment on or after April 24, 2014, through July 30, 2017, and all workers in the group threatened with total or partial separation from employment on the date of certification through two years from the date of certification, are eligible to apply for adjustment assistance under Chapter 2 of Title II of the Trade Act of 1974, as amended.

Signed in Washington, DC this 20th day of May, 2016.
Del Min Amy Chen,
Certifying Officer, Office of Trade Adjustment Assistance.

[FR Doc. 2016-18412 Filed 8-3-16; 8:45 am]

BILLING CODE P